DEPARTMENT OF THE TREASURY

Internal Revenue Service

26 CFR Part 1

[REG-124069-02]

RIN 1545-BA77

Section 6038—Returns Required With Respect to Controlled Foreign Partnerships

AGENCY: Internal Revenue Service (IRS), Treasury.

ACTION: Cancellation of notice of public hearing on proposed rulemaking.

SUMMARY: This document cancels the public hearing on proposed regulations relating to controlled foreign partnerships.

DATES: The public hearing originally scheduled for Wednesday, March 12, 2003, at 10 a.m., is cancelled.

FOR FURTHER INFORMATION CONTACT: LaNita Van Dyke of the Regulations Unit, Assistant Chief Counsel (Procedure and Administration), (202) 622-7190 (not a toll-free number).

SUPPLEMENTARY INFORMATION: A notice of proposed rulemaking and notice of public hearing that appeared in the Federal Register on Monday, December 23, 2002 (67 FR 78202), announced that a public hearing was scheduled for Wednesday, March 12, 2003, at 10 a.m., in room 4718, Internal Revenue Building, 1111 Constitution Avenue, NW., Washington, DC. The subject of the public hearing is proposed regulations under section 6038 of the Internal Revenue Code. The outlines of topics to be addressed at the hearing were due on Wednesday, February 20, 2003.

The notice of proposed rulemaking and notice of public hearing, instructed those interested in testifying at the public hearing to submit a request to speak and an outline of the topics to be addressed. As of Friday, February 21, 2003, no one has requested to speak. Therefore, the public hearing scheduled for Wednesday, March 12, 2003, is cancelled.

Cynthia Grigsby,
Chief, Regulations Unit, Associate Chief Counsel (Procedure and Administration).

[FR Doc. 03-4545 Filed 2-25-03; 8:45 am]

BILLING CODE 4830-01-P